DEPARTMENT OF STATE

Bureau of Educational and Cultural Affairs

[Public Notice 3556]

Business Management Curriculum Development and Faculty Training in Albania

ACTION: Request for Grant Proposals (RFGP).

SUMMARY: The Office of Global Educational Programs of the Bureau of Educational and Cultural Affairs in the Department of State announces an open competition for an assistance award to develop and strengthen university-level business management education in Albania. The project will support the development of instructional materials and faculty training in business with emphasis on business management, business law and ethics, corporate governance, accounting, organizational management, finance, banking, and alternative conflict resolution in business. Accredited post-secondary institutions meeting the provisions described in IRS regulation 26 CFR 1.501(c) may submit proposals that address these objectives. The means for achieving these objectives may include mentoring, case study development, teaching, consultation, research, distance education, internship training and professional outreach to public and private sector managers and entrepreneurs.

Overview and Project Objectives

The project is designed to support business management education at one or more post-secondary educational institutions in Albania and to address current issues affecting Albania's transition to a market economy, including the ethical dimensions of business practices and the factors that will encourage the development of a more favorable investment climate. The U.S. applicant should describe how it will work cooperatively with one or more post-secondary institutions in Albania. Applicants are encouraged to develop creative strategies to pursue these objectives.

Bureau policy stipulates that awards to organizations with less than four years experience in conducting international exchanges are limited to $60,000. The Bureau anticipates awarding one or two grants for a total amount not to exceed $188,300. Funds will be awarded for a period up to three years to assist with the costs of exchanges, educational materials, and to increase library holdings and improve Internet connections. Up to 25% of the grant total may be used to assist with the costs of project administration. Indirect administrative costs are not eligible for Bureau funding under this competition, but may be presented as part of the U.S. institution's contribution.

The project should pursue its objectives through a strategy that coordinates the participation of junior and senior faculty, administrators, or graduate students for any appropriate combination of teaching, research, mentoring, internships, and outreach, for exchange visits ranging from one week to an academic year. Visits of one semester or longer for participants from Albania are strongly encouraged, especially for junior members of the Albanian faculty. Program activities should be tied to the goals and objectives of the project. The strategy may include short but intensive English language training for selected participants whose English knowledge skills need to be strengthened or refreshed.

If the proposed project would occur within the context of a previous or ongoing project, the proposal should explain how the request for Bureau funding would build upon the pre-existing relationship or complement previous and concurrent projects, which must be listed and described with details about the amounts and sources of external support. Previous projects should be described in the proposal, and the results of the evaluation of previous cooperative efforts should be summarized.

U.S. Institution and Participant Eligibility

In the United States, participation in the program is open to accredited two and four-year colleges and universities, including graduate schools. Applications from community colleges, minority-serving institutions, and consortia or other combinations of U.S. colleges and universities are eligible. Secondary U.S. partners may include governmental and non-governmental organizations, as well as non-profit service and professional organizations. The lead U.S. university in the consortium or other combination of cooperating institutions is responsible for submitting the application. Each application must document the lead organization's authority to represent all U.S. cooperating partners.

With the exception of outside consultants reporting on the degree to which project objectives have been achieved, participants representing a U.S. institution and traveling under the Bureau's grant funds must be teachers, advanced graduate students who are teaching or research assistants, or administrators from the participating institution(s). Participants representing a U.S. institution must be U.S. citizens. Advanced graduate students who are teaching or research assistants are eligible for Bureau-funded participation in this program only if they are working under the direction of an accompanying faculty participant or project director.

Albanian Institutional and Participant Eligibility

Participation is open to recognized institutions of post-secondary education. Secondary foreign partners may include relevant governmental and non-governmental organizations, as well as non-profit service and professional organizations concerned with issues in business management, business law, business ethics, and alternative conflict resolution in business. Foreign participants must be citizens or permanent residents of Albania who are eligible to receive a J-1 visa.

Budget Guidelines

Applicants may submit a budget proposing up to $188,300. The Bureau anticipates awarding one or two grants for this project. Requests for amounts smaller than the maximum are eligible. Budget notes should carefully justify the amounts needed. There must be a summary budget as well as a breakdown reflecting the program and administrative budgets including unit costs. Cost sharing will be considered an important indicator of institutional commitment.

Please refer to the Solicitation Package for complete guidelines and formatting instructions.

Announcement Title and Number

All correspondence with the Bureau of Educational and Cultural Affairs concerning this RFGP should reference the above title “Business Management Curriculum Development and Faculty Training in Albania” and reference number ECA/A/S/U-01-16.

FOR FURTHER INFORMATION CONTACT: Contact the Humphrey Fellowships and Institutional Linkages Branch, Office of Global Educational Programs, Bureau of Educational and Cultural Affairs; ECA/A/S/U, Room 349, SA-44; U.S. Department of State, 301 4th Street, SW., Washington, DC 20547, phone (202) 619-5289, fax: (202) 401-1433, e-mail: affiliations@pd.state.gov to request a Solicitation Package.

The Solicitation Package contains detailed award criteria, required application forms, and guidelines for preparing proposals, including specific criteria for preparation of the proposal budget. Please specify the above reference number on all inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's website at http://exchanges.state.gov/education/rfgps. Please read all information before downloading.

Deadline of Proposals

All proposal copies must be received at the Bureau of Educational and Cultural Affairs by 5 p.m. Washington D.C. time on Friday, April 20, 2001. Faxed documents will not be accepted at any time. Documents postmarked by the due date but received on a later date will not be accepted. It is the responsibility of each applicant to ensure compliance with the deadline.

Approximate Program Dates

Grants should begin on or about September 1, 2001.

Duration: September 1, 2001-September 30, 2004.

Submissions

Applicants must follow all instructions in the Solicitation Package. The original and 10 copies of the application should be sent to: U.S. Department of State, SA-44, Ref.: ECA/A/S/U-01-16, Program Management, ECA/EX/PM, Room 534, 301 4th Street, S.W., Washington, D.C. 20547.

All copies should include the documents specified under Tabs A through E in the “Project Objectives, Goals, and Implementation” (POGI) section of the Solicitation Package. The documents under Tab F of the POGI should be submitted with the original application and with one of the ten copies.

Proposals that do not follow RFGP requirements and the guidelines appearing in the POGI and PSI may be excluded from consideration due to technical ineligibility.

Applicants must also submit the “Executive Summary” and “Proposal Narrative” Sections of the proposal on a 3.5″ diskette, formatted for DOS. This material must be provided in ASCII text (DOS) format with a maximum line length of 65 characters. The Bureau will transmit these files electronically to the Public Affairs Office in Tirana for its review, with the goal of reducing time it takes to get the post's comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Affairs Section of the U.S. Embassy in Tirana. Eligible proposals will be subject to review for compliance with Federal and Bureau regulations and guidelines and will be forwarded to Bureau grant panels for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

State Department officers in Washington, DC and overseas will use the criteria below to reach funding recommendations and decisions. Technically eligible applications will be competitively reviewed according to the criteria stated below. These criteria are not rank-ordered or weighted.

1. Broad Significance and Clarity of Institutional Objectives

Proposals should outline clearly formulated objectives that relate specifically to the needs of the participating institutions. Project objectives should also have significant but realistically anticipated ongoing consequences for the participating institutions and demonstrate how these consequences will also contribute to the transition in Albania to a more transparent, market-oriented economy.

2. Creativity and Feasibility of Strategy To Achieve Project Objectives

Strategies to achieve project objectives should demonstrate the feasibility of doing so during a three-year period by utilizing and reinforcing exchange activities realistically and with creativity.

3. Support of Diversity

Proposals should demonstrate substantive support of the Bureau's policy on diversity by explaining how issues of diversity relate to project objectives and how these issues will be addressed during project implementation. Proposals should also outline the institutional profile of each participating institution with regard to issues of diversity.

4. Institutional Commitment

Proposals should demonstrate significant understanding of the institutional needs of the Albanian partner institution(s) and of the U.S. institution's capacity to address these needs while also benefiting from its involvement with the Albanian partner(s). Proposals should also demonstrate a strong commitment, during and after the period of grant activity, to cooperate in the pursuit of institutional objectives.

5. Institutional Record/Ability

Proposals should demonstrate an institutional record of administering successful exchange programs, including responsible fiscal management and full compliance with all reporting requirements for past Bureau grants as determined by the State Department's contracts officers. The Bureau will consider the past performance of prior recipients and the demonstrated potential of new applicants. Reviewers will also consider the quality of exchange participants' academic credentials, skills, commitment and experience relative to the goals and activities of the project plan.

6. Project Evaluation

The proposal should outline a methodology for determining the degree to which a project meets its objectives, both while the project is underway and at its conclusion. The final project evaluation should include an external component and should provide observations about the project's influence within the participating institutions as well as their surrounding communities or societies.

7. Cost-Effectiveness

Administrative and program costs should be reasonable and appropriate with cost sharing provided as a reflection of the applicant's commitment to the project.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program cited above is provided through the Support for East European Democracy (SEED) Act of 1989.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: January 17, 2001.
Helena Kane Finn,
Principal Deputy Assistant Secretary, Bureau of Educational and Cultural Affairs, Department of State.

[FR Doc. 01-2189 Filed 1-24-01; 8:45 am]

BILLING CODE 4710-05-U